DEPARTMENT OF COMMERCE

International Trade Administration

North American Free Trade Agreement, Article 1904, Request for Panel Review

AGENCY: United States Section, NAFTA Secretariat, International Trade Administration, Department of Commerce.

ACTION: Notice of Request for Panel Review.

SUMMARY: A Request for Panel Review was filed on behalf of Selenis Canada, Inc. with the United States Section of the North American Free Trade Agreement (NAFTA) Secretariat on June 6, 2016 pursuant to NAFTA Article 1904. Panel Review was requested of the International Trade Commission's final determination regarding Polyethylene Terephthalate Resin from Canada. The final injury determination was published in the Federal Register on May 4, 2016 (81 FRN 26832) and the effective antidumping order was published in the Federal Register on May 6, 2016 (81 FRN 27929). The NAFTA Secretariat has assigned case number USA-CDA-2016-1904-01 to this request.

FOR FURTHER INFORMATION CONTACT: Paul E. Morris, United States Secretary, NAFTA Secretariat, Room 2061, 1401 Constitution Avenue NW., Washington, DC 20230, (202) 482-5438.

SUPPLEMENTARY INFORMATION: Chapter 19 of the NAFTA established a mechanism to replace domestic judicial review of final determinations in antidumping and countervailing duty cases involving imports from a NAFTA country with review by independent binational panels. When a Request for Panel Review is filed, a panel is established to act in place of national courts to review expeditiously the final determination to determine whether it conforms to the antidumping or countervailing duty law of the country that made the determination.

Under NAFTA Article 1904, which came into force on January 1, 1994, the Government of the United States, the Government of Canada, and the Government of Mexico established Rules of Procedure for Article 1904 Binational Panel Reviews (“Rules”). These Rules were published in the Federal Register on February 23, 1994 (59 FR 8686) and subsequently amended on April 10, 2008 (73 FR 19458).

The Rules provide that:

(a) A Party or interested person may challenge the final determination in whole or in part by filing a Complaint in accordance with Rule 39 within 30 days after the filing of the first Request for Panel Review (the deadline for filing a Complaint is July 6, 2016);

(b) A Party, investigating authority or interested person that does not file a Complaint but that intends to appear in support of any reviewable portion of the final determination may participate in the panel review by filing a Notice of Appearance in accordance with Rule 40 within 45 days after the filing of the first Request for Panel Review (the deadline for filing a Notice of Appearance is July 21, 2016); and

(c) The panel review shall be limited to the allegations of error of fact or law, including challenges to the jurisdiction of the investigating authority, that are set out in the Complaints filed in the panel review and to the procedural and substantive defenses raised in the panel review.

Dated: June 13, 2016.
Paul E. Morri,s
United States Secretary, NAFTA Secretariat.

[FR Doc. 2016-14339 Filed 6-16-16; 8:45 am]

BILLING CODE 3510-GT-P